DEPARTMENT OF AGRICULTURE

Forest Service

Mount Baker-Snoqualmie National Forest Site-Specific Invasive Plant Treatment Project and Forest Plan Amendment Number 28

AGENCY: Forest Service, USDA.

ACTION: Notice of intent to prepare an environmental impact statement.

SUMMARY: Invasive plants are currently damaging the ecological integrity of lands within and outside these administrative units. New tools and management techniques became available with the Pacific Northwest Region Invasive Plant Program, Preventing and Managing Invasive Plants, Final Environmental Impact Statement (USFS 2005a, R6 2005 FEIS), and Record of Decision (USFS 2005b, R6 2005 ROD). The Proposed Action would allow for use of these tools, including additional herbicides and application methods to increase treatment effectiveness. A Forest Plan amendment is proposed to allow the use of aminopyralid (Milestone®).

DATES: Scoping input must be received by April 2, 2012, 30 days from the date of publication in the Federal Register. The draft environmental impact statement is expected to be published Summer 2012 and the final environmental impact statement is expected approximately January 2013.

ADDRESSES: Send written comments to Attn: Laura Potash, Mt. Baker-Snoqualmie National Forest, 2930 Wetmore Avenue, Suite 3A, Everett, Washington 98201. Comments may also be sent via email to mbs_invasiveplantNEPA@fs.fed.us (note underscore after mbs) or via facsimile to (425) 783-0212. Comments received in response to this solicitation, including names and addresses of those who comment, will be part of the public record for this proposed action. Comments submitted anonymously will be accepted and considered, however. No public meetings concerning the project are scheduled at this time.

FOR FURTHER INFORMATION CONTACT: Laura Potash, Project Leader, at (425) 783-6043.

Individuals who use telecommunication devices for the deaf (TDD) may call the Federal Information Relay Service (FIRS) at 1-800-877-8339 between 8 a.m. and 8 p.m., Eastern Time, Monday through Friday.

SUPPLEMENTARY INFORMATION:

Purpose and Need for Action

There is a need for improved effectiveness in eradicating, controlling and containing invasive plants on the Mt. Baker-Snoqualmie National Forest. The current Forest-wide treatment approach pre-dates the Pacific Northwest Region Invasive Plant Program, Preventing and Managing Invasive Plants Record of Decision (R6 2005 ROD). The R6 2005 ROD amended the Mount Baker-Snoqualmie (MBS) Forest Plan by adding management direction for invasive plants and authorizing new tools to increase treatment efficacy and reduce potential adverse effects of treatment.

The current program needs to be updated so that goals for invasive plant management can be met.

As directed by the Forest Service Manual 2080, the Forests are applying the principles of Integrated Weed Management (IWM). IWM is an interdisciplinary pest management approach by which one selects and applies a combination of management techniques that, together, control a particular invasive plant species or infestation efficiently and effectively, with minimum adverse impacts to non-target organisms.

Since the publication of the R6 2005 ROD, a new chemical, aminopyralid, has been found to have lower risk to aquatic organisms than previously approved herbicides and higher effectiveness on particular invasive plants. Thus, a Forest Plan amendment is proposed to allow the use of aminopyralid. In addition, since 2005, invasive plant sites have been located in wilderness areas.

The purpose of the project is to control invasive plants in the most effective manner possible while minimizing adverse impacts to people and the environment.

In 2005, there were approximately 90 known target species sites, and most of the sites were smaller than 0.1 acre. The 2012 inventory estimates about 968 individual sites, totaling approximately 5,250 acres. The current program has not kept up with the treatment need.

The following site-specific examples demonstrate why additional herbicides, methods, and protocols are needed to improve treatment effectiveness:

1. The annual treatment planning process does not provide rapid enough response.

Example: A pit on Road SR 542 was used for a log deck and waste rock deposit site. Common comfrey spread into the area; the 5 stems discovered in 2008 nearly tripled in density in one year.

2. Additional herbicides would increase effectiveness for 30 of the 37 known target species on the Forest.

Example: Darrington end of Mountain Loop; over 100 gallons glyphosate has been applied in the five years from 2006 through 2010; 23 gallons were applied in 2010, and target species population continues to increase.

3. The ability to broadcast would increase effectiveness in continuous invaded areas where plant density is greater than about 70 percent.

4. New sites have been detected in wilderness areas. Three sites are located in the Wild Sky Wilderness along the un-decommissioned segment of the North Fork Skykomish Road 63, which is now part of the North Fork Skykomish Trail #1051. Another site is located on Scorpion Mountain within the Wild Sky Wilderness. An additional site occurs within the Glacier Peak Wilderness boundary, at an old trailhead beyond the junction with the Mill Creek Trail. This area was historically used to unload stock and a great amount of disturbance occurred here.

The alternatives will be evaluated for their ability to cost-effectively treat invasive plants.

The lower the average cost of a treated acre, the more acres that can be treated annually, and the more likely treatment goals will be met (less infestation over time). All of the alternatives are designed to follow R6 2005 ROD standards to minimize or eliminate adverse impacts of treatment. The intent is to increase treatment effectiveness without any significant risk to people or the environment.

Public Outreach

On 10/28/2010, the Mt. Baker-Snoqualmie National Forest (MBSNF) mailed government-to-government notices to local Tribes. On 11/1/2010, the MBSNF mailed public scoping notices to interested citizens, groups, industry, and agencies on the Forest SOPA mailing list. The notices summarized the Invasive Plant Management Project and invited comments. The January 1, 2011-March 31, 2011 Quarterly Schedule of Proposed Actions also included the proposal. The Forest Service received 7 comment letters and 2 telephone responses to the 11/1/2010 to 12/8/2010 scoping effort. Comments were received from 3 agencies, 3 organizations and 3 individuals. The scoping notice and comment letters are available in the Project Record and need not be repeated. Two key issues were identified in the scoping letters: concern about herbicide toxicity, and concern about cost-effectiveness of treatments. The scoping period will extend to April 2, 2012. No public meetings are planned at this time.

Proposed Action

The Proposed Action would allow for use of additional herbicides and application methods than currently available, to increase treatment effectiveness. A Forest Plan amendment is proposed to allow the use of aminopyralid (Milestone®). The Proposed Action also adds broadcasts application to the list of approved application methods for known sites and the new invader strategy. Broadcasting is required for a few dense infestations that cover large areas. Stream buffers and mitigation measures would apply to herbicide use, and certain herbicides would not be broadcast near streams and other water bodies. Treatments are proposed throughout the Forest, including within wilderness areas. The Proposed Action would modify the current annual planning process for Early Detection, Rapid Response (EDRR) (new invader strategy) and require that sites be screened by appropriate interdisciplinary specialists, who would use the key questions to determine appropriateness of treatment under EDRR, and which Management Requirements and Mitigation Measures (MR/MM) applies at each new site. The review team would screen the new site(s) and prepare a file checklist demonstrating that treatment would be within the scope of the NEPA decision. Proposed control measures have been identified for each invasive species site (see http://www.fs.usda.gov/projects/mbs/landmanagement/projects, Invasive Plant Management). Treatments are often a combination of methods, such as herbicide/manual or cultural/manual. All treatments would be done according to Management Requirements and Mitigation Measures (MR/MM), intended to minimize risk and maximize effectiveness.

Possible Alternatives

The Forest Service is considering an alternative of treating without the use of aminopyralid and only using the 10 herbicides approved in the R6 2005 ROD. The Forest Service is also considering an alternative where not all treatments would be spot treatments and broadcast would be limited to existing treatments at Skyiou Island. The No Action alternative will also be considered, which would continue the current invasive plant management program on the MBS National Forest.

Responsible Official

The Responsible Official is the MBS National Forest Supervisor.

Nature of Decision To Be Made

The Forest Supervisor will make the following decisions based on the interdisciplinary analysis: (1) Whether or not to authorize site-specific invasive plant treatments using herbicides and other methods; (2) whether or not to implement an Early Detection and Rapid Response process for infestations that are detected over the next 5 to 15 years; (3) what MR/MM are required and (4) what monitoring and adaptive management will occur.

Permits or Licenses Required

Pesticide application licenses will be required for those implementing this project. Pesticide Use Proposals for wilderness herbicide applications need to be signed by the Regional Forester, otherwise Pesticide Use Proposals are signed by the Forest Supervisor. A National Pollutant Discharge Elimination System (NPDES) permit is required for herbicide use into waters of the United States or adjacent conveyances with a hydrologic surface connection to water at the time of application. Project design features and buffers are intended to minimize pollution discharge to the extent practicable and this project conforms to current permit requirements. A permit will be obtained before herbicide is used within 3 feet of waters of the United States or flowing ditches that are connected to the waters of the United States.

Dated: February 17, 2012.
Rodney Mace,
Acting Forest Supervisor.

[FR Doc. 2012-4628 Filed 2-27-12; 8:45 am]

BILLING CODE 3410-11-P